DEPARTMENT OF LABOR

Employment and Training Administration

[A-W-63,457]

MTD Southwest, Inc., Tempe, AZ; Notice of Termination of Investigation

Pursuant to Section 221 of the Trade Act of 1974, as amended, an investigation was initiated on June 2, 2008 in response to a petition filed by company officials on behalf of the workers at MTD Southwest, Inc., Tempe, Arizona.

The petitioner has requested that the petition be withdrawn. Consequently, the investigation has been terminated.

Signed at Washington, DC this 3rd day of June 2008.
Richard Church,
Certifying Officer, Division of Trade Adjustment Assistance.

[FR Doc. E8-12967 Filed 6-9-08; 8:45 am]

BILLING CODE 4510-FN-P